DEPARTMENT OF TRANSPORTATION

Federal Aviation Administration

14 CFR Part 39

[Docket No. FAA-2011-0258; Directorate Identifier 2010-NM-191-AD; Amendment 39-17326; AD 2013-02-05]

RIN 2120-AA64

Airworthiness Directives; the Boeing Company

AGENCY: Federal Aviation Administration (FAA), DOT.

ACTION: Final rule.

SUMMARY: We are adopting a new airworthiness directive (AD) for certain The Boeing Company Model 737-600, -700, -700C, -800, -900, and -900ER series airplanes. This AD requires, for certain airplanes, installing two warning level indicator lights on each of the P1-3 and P3-1 instrument panels in the flight compartment. This AD also requires, for certain airplanes, replacing the existing P5-16 and P5-10 panels; and, for certain airplanes, replacing the basic P5-16 panel with a high altitude landing P5-16 panel. Additionally, this AD requires revising the airplane flight manual to remove certain requirements of previous AD actions, and to advise the flightcrew of certain changes. This AD was prompted by a design change in the cabin altitude warning system that would address the identified unsafe condition. We are issuing this AD to prevent failure of the flightcrew to recognize and react to a valid cabin altitude warning horn, which could result in incapacitation of the flightcrew due to hypoxia (a lack of oxygen in the body), and consequent loss of control of the airplane.

DATES: This AD is effective March 6, 2013.

The Director of the Federal Register approved the incorporation by reference of a certain publication listed in the AD as of March 6, 2013.

The Director of the Federal Register approved the incorporation by reference of certain publications listed in the AD as of November 7, 2012 (77 FR 60296, October 3, 2012).

ADDRESSES: For service information identified in this AD, contact Boeing Commercial Airplanes, Attention: Data & Services Management, P.O. Box 3707, MC 2H-65, Seattle, Washington 98124-2207; telephone 206-544-5000, extension 1, fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Jeffrey W. Palmer, Aerospace Engineer, Systems and Equipment Branch, ANM-130S, FAA, Seattle Aircraft Certification Office, 1601 Lind Avenue SW., Renton, Washington 98057-3356; phone: (425) 917-6472; fax: (425) 917-6590; email: jeffrey.w.palmer@faa.gov.

SUPPLEMENTARY INFORMATION:

Discussion

We issued a supplemental notice of proposed rulemaking (SNPRM) to amend 14 CFR part 39 to include an AD that would apply to the specified products. The SNPRM published in the Federal Register on August 27, 2012 (77 FR 51724). The original NPRM (76 FR 16579, March 24, 2011) proposed to require, for certain airplanes, installing two warning level indicator lights on each of the P1-3 and P3-1 instrument panels in the flight compartment. The original NPRM also proposed to require revising the airplane flight manual (AFM) to remove certain requirements of previous AD actions, and to advise the flightcrew of the following changes: revised non-normal procedures to use when a cabin altitude warning or rapid depressurization occurs, and revised cabin pressurization procedures for normal operations. The SNPRM proposed to add airplanes to the applicability; add airplanes to the installation requirement, including, for certain airplanes, replacing the existing P5-16 and P5-10 panels; and, for certain airplanes, replacing the basic P5-16 panel with a high altitude landing P5-16 panel.

Comments

We gave the public the opportunity to participate in developing this AD. The following presents the comments received on the proposal (77 FR 51724, August 27, 2012) and the FAA's response to each comment.

Request To Exclude Airplanes With Certain Variable Numbers From Paragraph (i) of the SNPRM (77 FR 51724, August 27, 2012)

Boeing asked that paragraph (i) of the SNPRM (77 FR 51724, August 27, 2012) be changed to exclude airplanes with certain variable numbers, instead of excluding Groups 24, 25, and 27 through 33 airplanes identified in Boeing Alert Service Bulletin 737-31A1332, Revision 3, dated March 28, 2012. Boeing stated that excluding credit for Groups 24, 25, and 27 through 33 airplanes excludes credit for approximately 655 Model 737NG airplanes on which the actions specified in Boeing Alert Service Bulletin 737-31A1332, Revision 1, dated June 24, 2010; or Revision 2, dated August 18, 2011; might have been accomplished previously. Boeing also noted that there is a conflict between these service bulletin revisions for the Model 737NG airplanes having line numbers 1 through 740 inclusive and included in the applicability specified in AD 2009-16-07, Amendment 39-15990 (74 FR 41607, August 18, 2009), which was referred to under “Related Rulemaking” in the SNPRM. Boeing stated that only 87 airplanes having certain variable numbers have an actual conflict. Boeing also stated that the overlap between groups may be isolated to airplanes on which certain actions in the referenced service information were done, and if those airplanes have not had the overlap between groups, credit should be given for accomplishing this service information.

We agree that replacing Groups 24, 25, and 27 through 33 airplanes identified in Boeing Alert Service Bulletin 737-31A1332, Revision 3, dated March 28, 2012, with the specified airplane variable numbers more clearly identifies the airplanes that should be excluded in paragraphs (i)(1) and (i)(2) of this AD. This change excludes a smaller group of airplanes from those credit paragraphs. We have changed paragraphs (i)(1) and (i)(2) of this AD accordingly.

We do not agree with giving credit for airplanes on which certain actions have been done and that might not overlap between groups. Doing so would require additional research into the detailed maintenance history of each affected airplane, which would unduly delay issuance of this AD. Operators of the affected airplanes may request approval of an alternative method of compliance (AMOC) under the provisions of paragraph (m) of this AD if substantiating data are provided. We have made no change to the AD in this regard.

Request To Correct AFM Reference to Target Speed

Delta Airlines (DAL) asked that the target speed identified in paragraph (j)(2)(iv) of the SNPRM (77 FR 51724, August 27, 2012) be corrected. DAL stated that if an emergency descent is required, the target speed in the SNPRM is given as “MO/MMO”; however, in the original NPRM (76 FR 16579, March 24, 2011), the correct target speed was given as “VMO/MMO.” DAL noted that the current target speed of “MO/MMO” is incorrect and should be changed back to “VMO/MMO.”

We agree that the published version of the target speed identified in paragraph (j)(2)(iv) of the SNPRM (77 FR 51724, August 27, 2012) is incorrect. The correct target speed, “VMO/MMO,” is specified in paragraph (j)(2)(iv) of this AD.

Request To Include Revised Service Information

United Airlines (UA) asked that the SNPRM (77 FR 51724, August 27, 2012) include Revision 4 of Boeing Alert Service Bulletin 737-31A1332. UA stated that Boeing is in the process of revising Boeing Alert Service Bulletin 737-31A1332, Revision 3, dated March 28, 2012, and added that it has reviewed the preliminary release of Revision 4.

We do not agree to include Revision 4 of Boeing Alert Service Bulletin 737-31A1332 in this AD because it has not yet been issued. We do not consider that delaying this action until after the manufacturer revises the service bulletin is warranted. We also cannot use the phrase, “or later FAA-approved revisions,” in an AD when referring to the service document because doing so violates Office of the Federal Register (OFR) regulations for approval of materials “incorporated by reference” in rules.

To allow operators to use later revisions of the referenced document (issued after publication of the AD), either we must revise the AD to reference specific later revisions, or operators must request approval to use later revisions as an AMOC with this AD under the provisions of paragraph (m) of this AD. However, once Revision 4 of Boeing Alert Service Bulletin 737-31A1332 is released, we will consider issuing a global AMOC to allow operators to use that revision for accomplishing the requirements of this AD. We have not changed the AD in this regard.

Request To Clarify Component Service Bulletin References

DAL asked that the final rule clarify that the rework specified in the BAE Systems component service bulletins identified in certain notes in Boeing Alert Service Bulletin 737-31A1332, Revision 3, dated March 28, 2012, does not have to be done by using every component service bulletin listed. DAL added that by specifying only those component service bulletins applicable to the dash number part being reworked, the intent of the notes would not have to be interpreted.

We agree to provide clarification. Operators may refer to the part numbers identified in Section 1.A., “Planning Information—Effectivity,” of the service information specified in note rows (a) and (b) of Figure 1 and note rows (a) and (b) of Figure 2 of Boeing Alert Service Bulletin 737-31A1332, Revision 3, dated March 28, 2012, to determine which service information may be used as guidance for rework of a given panel. We have added a new Note 1 to paragraph (g) of this AD (and reidentified subsequent notes) to provide clarification.

Request To Add Repair Language to AMOC Paragraph

Boeing asked that repair approval by a Boeing Commercial Airplanes Organization Designation Authorization (ODA) be added to the AMOC language in paragraph (m) of the SNPRM (77 FR 51724, August 27, 2012). Boeing stated that this delegation of authority to approve an AMOC for any repair should be included in the AD.

We agree with the commenter for the reason provided. We have added a new paragraph (m)(3) to this AD to include the standard ODA repair delegation of authority language.

Conclusion

We reviewed the relevant data, considered the comments received, and determined that air safety and the public interest require adopting the AD with the changes described previously. We determined that these changes will not increase the economic burden on any operator or increase the scope of the AD.

Costs of Compliance

We estimate that this AD affects 870 airplanes of U.S. registry. The following table provides the estimated costs for U.S. operators to comply with this AD.

Table—Estimated Costs
Action | Work hours | Average labor rate per hour | Parts | Cost per product | Number of U.S.- registered airplanes | Fleet cost
Installation of warning indicator lights | Between 34 and 84 | $85 | Between $2,172 and $5,238 | Between $5,062 and $12,378 | 870 | Between $4,403,940 and $10,768,860.
AFM revision | 2 | 85 | $0 | $170 | 870 | $147,900.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-02-05 The Boeing Company: Amendment 39-17326; Docket No. FAA-2011-0258; Directorate Identifier 2010-NM-191-AD.

(a) Effective Date

This airworthiness directive (AD) is effective March 6, 2013.

(b) Affected ADs

This AD affects the ADs identified in paragraphs (b)(1), (b)(2), and (b)(3) of this AD. This AD does not supersede the requirements of these ADs.

(1) AD 2003-14-08, Amendment 39-13227 (68 FR 41519, July 14, 2003).

(2) AD 2006-13-13, Amendment 39-14666 (71 FR 35781, June 22, 2006; corrected July 3, 2006 (71 FR 37980)).

(3) AD 2008-23-07, Amendment 39-15728 (73 FR 66512, November 10, 2008).

(c) Applicability

This AD applies to The Boeing Company Model 737-600, -700, -700C, -800, -900, and -900ER series airplanes, certificated in any category, as identified in Boeing Alert Service Bulletin 737-31A1332, Revision 3, dated March 28, 2012.

(d) Subject

Air Transport Association (ATA) of America Code 31, Instruments.

(e) Unsafe Condition

This AD was prompted by a design change in the cabin altitude warning system that would address the identified unsafe condition. We are issuing this AD to prevent failure of the flightcrew to recognize and react to a valid cabin altitude warning horn, which could result in incapacitation of the flightcrew due to hypoxia (a lack of oxygen in the body), and consequent loss of control of the airplane.

(f) Compliance

Comply with this AD within the compliance times specified, unless already done.

(g) Installation

Within 36 months after the effective date of this AD: Install two warning level indicator lights on each of the P1-3 and P3-1 instrument panels in the flight compartment, and, as applicable, replace the existing P5-16 and P5-10 panels, in accordance with the Accomplishment Instructions of Boeing Alert Service Bulletin 737-31A1332, Revision 3, dated March 28, 2012.

Note 1 to paragraph (g) of this AD: Note rows (a) and (b) of Figures 1 and 2 of Boeing Alert Service Bulletin 737-31A1332, Revision 3, dated March 28, 2012, provide additional guidance for reworking the P1-3 and P3-1 panels to new part numbers. Section 1.A., “Planning Information—Effectivity,” of the documents specified in those note rows identify part numbers to which those documents apply.

(h) Concurrent Requirements

For Group 21, Configuration 2 airplanes, as identified in Boeing Alert Service Bulletin 737-31A1332, Revision 3, dated March 28, 2012: Prior to or concurrently with doing the actions required by paragraph (g) of this AD, replace the basic P5-16 panel with a high altitude landing P5-16 panel, in accordance with the Accomplishment Instructions of Boeing Service Bulletin 737-21-1171, dated February 12, 2009.

(i) Credit for Previous Actions

(1) For Group 1 airplanes identified in Boeing Alert Service Bulletin 737-31A1332, Revision 1, dated June 24, 2010; except airplanes having variable numbers YA001 through YA019 inclusive, YA201 through YA203 inclusive, YA231 through YA242 inclusive, YA251, YA252, YA271, YA272, YA301, YA302, YA311, YA312, YA501 through YA508 inclusive, YA541, YA701, YA702, YC001 through YC007 inclusive, YC051, YC052, YC101, YC102, YC111, YC121, YC301, YC302, YC321 through YC330 inclusive, YC381, YC401 through YC403 inclusive, YC501, YC502, and YE001 through YE003 inclusive: This paragraph provides credit for the actions required by paragraph (g) of this AD, if those actions were performed before the effective date of this AD using Boeing Alert Service Bulletin 737-31A1332, Revision 1, dated June 24, 2010.

(2) For airplanes identified in Boeing Alert Service Bulletin 737-31A1332, Revision 2, dated August 18, 2011; except airplanes identified in paragraph (i)(3) of this AD and airplanes having variable numbers YA001 through YA019 inclusive, YA201 through YA203 inclusive, YA231 through YA242 inclusive, YA251, YA252, YA271, YA272, YA301, YA302, YA311, YA312, YA501 through YA508 inclusive, YA541, YA701, YA702, YC001 through YC007 inclusive, YC051, YC052, YC101, YC102, YC111, YC121, YC301, YC302, YC321 through YC330 inclusive, YC381, YC401 through YC403 inclusive, YC501, YC502, and YE001 through YE003 inclusive: This paragraph provides credit for the actions required by paragraph (g) of this AD, if those actions were performed before the effective date of this AD using Boeing Alert Service Bulletin 737-31A1332, Revision 2, dated August 18, 2011.

(3) For Group 21, Configuration 2 airplanes identified in Boeing Alert Service Bulletin 737-31A1332, Revision 3, dated March 28, 2012: This paragraph provides credit for the actions required by paragraph (g) of this AD, if those actions were performed before the effective date of this AD using Boeing Alert Service Bulletin 737-31A1332, Revision 2, dated August 18, 2011, and provided that the actions specified in Boeing Service Bulletin 737-21-1171, dated February 12, 2009, were accomplished prior to or concurrently with the actions specified in Boeing Alert Service Bulletin 737-31A1332, Revision 2, dated August 18, 2011.

(j) Airplane Flight Manual (AFM) Revisions

Within 36 months after the effective date of this AD, and after doing the installation required by paragraph (g) of this AD, do the actions specified in paragraphs (j)(1), (j)(2), and (j)(3) of this AD.

(1) Revise the Limitations Section of the applicable Boeing 737 AFM by doing the following action: Delete the “CABIN ALTITUDE WARNING TAKEOFF BRIEFING” added by AD 2008-23-07, Amendment 39-15728 (73 FR 66512, November 10, 2008).

(2) Revise the Non-Normal Procedures Section of the applicable Boeing 737 AFM by doing the actions specified in paragraphs (j)(2)(i), (j)(2)(ii), (j)(2)(iii), and (j)(2)(iv) of this AD.

(i) Delete the procedure titled “WARNING HORN—CABIN ALTITUDE OR CONFIGURATION RECALL” added by AD 2006-13-13, Amendment 39-14666 (71 FR 35781, June 22, 2006; corrected July 3, 2006 (71 FR 37980). If the title of this procedure has been changed according to FAA Alternative Method of Compliance (AMOC) Letter 130S-09-134a, dated April 28, 2009, delete the procedure that was approved according to that AMOC letter.

(ii) Delete the procedure titled “CABIN ALTITUDE WARNING OR RAPID DEPRESSURIZATION” added by AD 2003-14-08, Amendment 39-13227 (68 FR 41519, July 14, 2003).

(iii) If the procedure titled “CABIN ALTITUDE (Airplanes with the CABIN ALTITUDE lights installed)” is currently contained in the applicable Boeing 737 AFM, delete the procedure titled “CABIN ALTITUDE (Airplanes with the CABIN ALTITUDE lights installed).”

(iv) Add the following statement. This may be done by inserting a copy of this AD into the applicable AFM.

Cabin Altitude Warning or Rapid Depressurization (Required by AD 2013-02-05)
Condition: The Cabin Altitude warning light illuminates or the intermittent warning horn sounds in flight above 10,000 ft MSL.
Recall:
Oxygen Masks and Regulators | ON, 100%
Crew Communications | ESTABLISH
Reference:
Pressurization Mode Selector | MANUAL
Outflow Valve Switch | CLOSE
If Cabin Altitude is uncontrollable:
Emergency Descent (If Required) | INITIATE
Passenger Oxygen Switch | ON
Thrust Levers | CLOSE
Speed Brakes | FLIGHT DETENT
Target Speed | VMO/MMO

Note 2 to paragraphs (j)(2)(iv) and (j)(3)(ii) of this AD: When statements identical to those specified in paragraphs (j)(2)(iv) and (j)(3)(ii) of this AD have been included in the general revisions of the AFM, the general revisions may be inserted into the AFM, and the copies of this AD may be removed from the AFM.

(3) Revise the Normal Procedures Section of the applicable Boeing 737 AFM by doing the actions specified in paragraphs (j)(3)(i) and (j)(3)(ii) of this AD.

(i) Delete the procedure titled “CABIN ALTITUDE WARNING TAKEOFF BRIEFING” added by AD 2008-23-07, Amendment 39-15728 (73 FR 66512, November 10, 2008).

(ii) Add the following statement. This may be done by inserting a copy of this AD into the applicable AFM.

For normal operations, the pressurization mode selector should be in AUTO prior to takeoff. (Required by AD 2013-02-05)

(k) Terminating Action for Affected ADs

Accomplishing the requirements of this AD terminates the requirements of the ADs identified in paragraphs (k)(1), (k)(2), and (k)(3) of this AD for only the airplanes identified in paragraph (c) of this AD.

(1) AD 2003-14-08, Amendment 39-13227 (68 FR 41519, July 14, 2003): The requirements specified in Table 1 and Figure 1 of that AD.

(2) AD 2006-13-13, Amendment 39-14666 (71 FR 35781, June 22, 2006; corrected July 3, 2006 (71 FR 37980): All requirements of that AD.

(3) AD 2008-23-07, Amendment 39-15728 (73 FR 66512, November 10, 2008): All requirements of that AD.

(l) Special Flight Permits

Special flight permits, as described in Section 21.197 and Section 21.199 of the Federal Aviation Regulations (14 CFR 21.197 and 21.199), are not allowed.

(m) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(n) Related Information

(1) For more information about this AD, contact Jeffrey W. Palmer, Aerospace Engineer, Systems and Equipment Branch, ANM-130S, FAA, Seattle Aircraft Certification Office, 1601 Lind Avenue SW., Renton, Washington 98057-3356; phone: (425) 917-6472; fax: (425) 917-6590; email: jeffrey.w.palmer@faa.gov.

(2) For service information identified in this AD, contact Boeing Commercial Airplanes, Attention: Data & Services Management, P.O. Box 3707, MC 2H-65, Seattle, Washington 98124-2207; telephone 206-544-5000, extension 1, fax 206-766-5680; Internet https://www.myboeingfleet.com. You may review copies of the referenced service information at the FAA, Transport Airplane Directorate, 1601 Lind Avenue SW., Renton, Washington. For information on the availability of this material at the FAA, call 425-227-1221.

(o) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on March 6, 2013.

(i) Boeing Service Bulletin 737-21-1171, dated February 12, 2009.

(ii) Reserved.

(4) The following service information was approved for IBR on November 7, 2012 (77 FR 60296, October 3, 2012).

(i) Boeing Alert Service Bulletin 737-31A1332, Revision 1, dated June 24, 2010.

(ii) Boeing Alert Service Bulletin 737-31A1332, Revision 2, dated August 18, 2011.

(iii) Boeing Alert Service Bulletin 737-31A1332, Revision 3, dated March 28, 2012.

(4) For service information identified in this AD, contact Boeing Commercial Airplanes, Attention: Data & Services Management, P.O. Box 3707, MC 2H-65, Seattle, Washington 98124-2207; telephone 206-544-5000, extension 1; fax 206-766-5680; Internet https://www.myboeingfleet.com.

(5) You may view this service information at the FAA, Transport Airplane Directorate, 1601 Lind Avenue SW., Renton, Washington. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on January 9, 2013.
Kalene C. Yanamura,
Acting Manager, Transport Airplane Directorate, Aircraft Certification Service.

[FR Doc. 2013-01720 Filed 1-29-13; 8:45 am]

BILLING CODE 4910-13-P